Proclamation 10852 of October 31, 2024

National Lung Cancer Awareness Month, 2024

By the President of the United States of America

A Proclamation

Too many Americans know the pain of losing a loved one to lung cancer, the leading cause of cancer death in the United States. During National Lung Cancer Awareness Month, we honor all those living with lung cancer and their loved ones. We thank the researchers searching for answers and the medical professionals who are working tirelessly to care for those with lung cancer, and we recommit to ending cancer as we know it.

Although scientists have made incredible breakthroughs that have improved prevention, detection, and treatment for cancer and saved lives, a lung cancer diagnosis can be terrifying. This year, nearly 250,000 Americans will be diagnosed with the disease. Treatment can be grueling. Medical bills can cause concerns for the whole family. And the flood of medical information directed toward patients and their caretakers can be overwhelming. Too often, people feel lost and left behind, especially those who are disproportionately impacted by lung cancer—such as Black men, rural residents, and women under 50 years old.

Cancer is personal to many families, including mine, so I made fighting cancer a top priority in my Administration. The First Lady and I began by reigniting the Biden Cancer Moonshot, aiming to cut the cancer death rate by at least 50 percent over the next 25 years. I also secured $4 billion in bipartisan funding and established the Advanced Research Projects Agency for Health to support scientists, innovators, and public health professionals in driving innovation to prevent, detect, and treat cancer and other life-threatening diseases.

My Administration is also working around the clock to make cancer treatments more affordable and the treatment process more manageable for families. We have saved millions of families $800 per year on their health insurance premiums by strengthening Medicaid and the Affordable Care Act. Through my Inflation Reduction Act, we are capping total out-of-pocket prescription drug costs for Medicare beneficiaries at $2,000 per year, including for cancer drugs, which can cost many times that. And for the first time ever, families fighting cancer can access patient navigation services that are fully paid for through Medicare, Medicaid, and private insurance—helping guide families through the diagnosis and treatment process and offering them much-needed support.

My Administration is also committed to preventing cancer by tackling another driver of cancer deaths in this country: smoking. To ensure that Americans who want to quit have the support they need, the Department of Health and Human Services created a Framework to Support and Accelerate Smoking Cessation, setting goals and strategies to help our communities reduce smoking. And the Centers for Disease Control and Prevention launched a $15 million program that will help increase awareness about smoking and options for services to help people quit. For anyone looking to quit smoking, you can find resources at BeTobaccoFree.gov or smokefree.gov or by calling 877-44U-QUIT.

My Administration is expanding early detection and screening services because an early diagnosis of lung cancer can save lives. Together, Federal agencies, community health centers, and other partners are providing early detection knowledge and support services to underserved communities. I encourage all Americans to talk to their doctors about lung cancer symptoms.

During National Lung Cancer Awareness Month, we strengthen our commitment to standing by all those facing lung cancer and their families, and we ensure they have access to the care they need. We also rededicate ourselves to spreading awareness about lung cancer and working to end cancer as we know it, in order to save more lives.

NOW, THEREFORE, I, JOSEPH R. BIDEN JR., President of the United States of America, by virtue of the authority vested in me by the Constitution and the laws of the United States, do hereby proclaim November 2024 as National Lung Cancer Awareness Month. I call upon the people of the United States to speak with their doctors and health care providers to learn more about lung cancer. I encourage citizens, government agencies, private businesses, nonprofit organizations, the media, and other interested groups to increase awareness about what Americans can do to prevent, detect, and treat lung cancer.

IN WITNESS WHEREOF, I have hereunto set my hand this thirty-first day of October, in the year of our Lord two thousand twenty-four, and of the Independence of the United States of America the two hundred and forty-ninth.

[FR Doc. 2024-25807

Filed 11-4-24; 8:45 am]

Billing code 3395-F4-P